DEPARTMENT OF THE INTERIOR

Bureau of Land Management

43 CFR Part 3830

[Docket No. BLM-2025-0203; A2407-014-004-065516; #O2412-014-004-047181.1]

RIN 1004-AF47

Revisions to Regulations Regarding Locating, Recording, and Maintaining Mining Claims or Sites—Fees

AGENCY: Bureau of Land Management, Interior.

ACTION: Direct final rule; request for comments.

SUMMARY: This direct final rule (DFR) revises regulations containing general provisions related to fee requirements for locating, recording, and maintaining mining claims or sites under the Mining Law of 1872 and the Federal Land Policy and Management Act of 1976 (FLPMA). This DFR updates terminology, clarifies language, and removes obsolete provisions.

DATES: The final rule is effective on November 3, 2025, unless significant adverse comments are received by October 2, 2025. If significant adverse comments are received, notice will be published in the Federal Register before the effective date either withdrawing the rule or issuing a new final rule that responds to any significant adverse comments.

ADDRESSES: You may submit comments by one of the following methods:

• Federal eRulemaking Portal: https://www.regulations.gov. In the Search box, enter the Docket Number “BLM-2025-0203” and click the “Search” button. Follow the instructions at this website.

• Mail, personal, or messenger delivery: U.S. Department of the Interior (Department), Director (630), Bureau of Land Management (BLM), 1849 C St. NW, Room 5646, Washington, DC 20240, Attention: 1004-AF47.

FOR FURTHER INFORMATION CONTACT: Kirk Rentmeister, National Mining Law Program Lead, telephone: 775-435-5514; email: krentmei@blm.gov. Individuals in the United States who are deaf, deafblind, hard of hearing, or have a speech disability may dial 711 (TTY, TDD, or TeleBraille) to access telecommunications relay services. Individuals outside the United States should use the relay services offered within their country to make international calls to the point-of-contact in the United States.

For a summary of the final rule, please see the abstract description of the document in Docket Number BLM-2025-0203 on www.regulations.gov.

SUPPLEMENTARY INFORMATION: The Department's regulations implementing the requirements of the Mining Law, 30 U.S.C. 22-54, and FLPMA, 43 U.S.C. 1744, are contained in 43 CFR part 3830. Subpart D, “BLM Service Charge and Fee Requirements,” sets out the fees required for locating, recording, and maintaining mining claims, millsites, and tunnel sites. Section 3830.21 identifies the different types of fees. Section 3830.22 identifies when the BLM will issue refunds of fees. Section 3830.23 addresses the types of payments, and what happens when the issuing institution of a check, negotiable instrument, or credit card refuses to pay. Section 3830.25 identifies when payment of fees for new mining claims must be made.

The Department notes that all of these sections, as well as the table of contents and heading for Subpart D, contain the term “service charge,” rather than the current term “processing fee.” Because the “service charge” terminology is obsolete, the Department is revising these regulations to conform to current terminology and to simplify the wording. Additionally, the Department has determined that the authority statement, the heading of § 3830.20, and certain text in § 3830.21 should be revised due to obsolescence resulting from the fact that there are no longer any oil shale placer mining claims in the BLM's records. The references to “oil shale fees” in these two regulations will be removed and the remaining provision renumbered. Similarly, the reference to 30 U.S.C. 242 (the statute governing oil shale placer mining claims) will be removed from the authority citation and the remaining citations simplified. Finally, § 3830.23(b) has been reworded to clarify the BLM's longstanding procedure regarding refused payments and when the BLM will accept a replacement payment.

The Department has determined that these reasons, independently and alone, justify revision of 43 CFR part 3830 subpart D. The Department has no interest in maintaining regulations that are obsolete or unclear.

The Department is issuing this rule as a DFR. Although the Administrative Procedure Act (APA, 5 U.S.C. 551 through 559) generally requires agencies to engage in notice and comment rulemaking, section 553 of the APA provides an exception when the agency “for good cause finds” that notice and comment are “impracticable, unnecessary, or contrary to the public interest.” Id. section 553(b)(B). The Department has determined that notice and comment are unnecessary because this rule is noncontroversial; of a minor, technical nature; involves little agency discretion; and is unlikely to receive any significant adverse comments. Significant adverse comments are those that oppose the revision of the rule and raise, alone or in combination, (1) reasons why the revision of the rule is inappropriate, including challenges to the revision's underlying premise; or (2) serious unintended consequences of the revision. A comment recommending an addition to the rule will not be considered significant and adverse unless the comment explains how this DFR would be ineffective without the addition.

Procedural Matters

Executive Order (E.O.) 12866—Regulatory Planning and Review and E.O. 13563—Improving Regulation and Regulatory Review

E.O. 12866 provides that the Office of Information and Regulatory Affairs (OIRA) in the Office of Management and Budget (OMB) will review all significant rules. OIRA has determined that this rule is not significant.

E.O. 13563 reaffirms the principles of E.O. 12866, while calling for improvements in the Nation's regulatory system to promote predictability, reduce uncertainty, and use the best, most innovative, and least burdensome tools for achieving regulatory ends. E.O. 13563 directs agencies to consider regulatory approaches that reduce burdens and maintain flexibility and freedom of choice for the public where these approaches are relevant, feasible, and consistent with regulatory objectives. E.O. 13563 emphasizes further that agencies must base regulations on the best available science and that the rulemaking process must allow for public participation and an open exchange of ideas. The Department developed this rule in a manner consistent with these requirements.

Regulatory Flexibility Act

The Regulatory Flexibility Act (RFA, 5 U.S.C. 601 through 612) requires an agency to prepare a regulatory flexibility analysis for all rules unless the agency certifies that the rule will not have a significant economic impact on a substantial number of small entities. The RFA applies only to rules for which an agency is required to first publish a proposed rule. See 5 U.S.C. 603(a) and 604(a). As the Department is not required to publish a notice of proposed rulemaking for this direct final rule, the RFA does not apply.

Congressional Review Act

This rule is not a major rule under the Congressional Review Act, 5 U.S.C. 804(2). Specifically, the direct final rule: (a) will not have an annual effect on the economy of $100 million or more; (b) will not cause a major increase in costs or prices for consumers, individual industries, Federal, State, or local government agencies, or geographic regions; and (c) will not have significant adverse effects on competition, employment, investment, productivity, innovation, or on the ability of United States-based enterprises to compete with foreign-based enterprises in domestic and export markets.

Unfunded Mandates Reform Act

This rule does not impose an unfunded mandate on State, local, or Tribal governments, or the private sector, of more than $100 million per year. The rule does not have a significant or unique effect on State, local, or Tribal governments, or the private sector. The rule merely updates terminology, clarifies language, and removes obsolete provisions. Therefore, a statement containing the information required by the Unfunded Mandates Reform Act (2 U.S.C. 1531 et seq.) is not required.

E.O. 12630—Governmental Actions and Interference With Constitutionally Protected Property Rights

This rule does not result in a taking of private property or otherwise have regulatory takings implications under E.O. 12630. The rule updates terminology, clarifies language, and removes obsolete provisions; therefore, the rule will not result in private property being taken for public use without just compensation. A takings implication assessment is therefore not required.

E.O. 13132—Federalism

Under the criteria of section 1 of E.O. 13132, this rule does not have sufficient federalism implications to warrant the preparation of a federalism summary impact statement. This rule will not have substantial direct effects on the States, on the relationship between the national government and the States, or on the distribution of power and responsibilities among the various levels of government. A federalism summary impact statement is not required.

E.O. 12988—Civil Justice Reform

This direct final rule complies with the requirements of E.O. 12988. Among other things, this rule:

(a) Meets the criteria of section 3(a) requiring that all regulations be reviewed to eliminate errors and ambiguity and be written to minimize litigation;

(b) Meets the criteria of section 3(b)(2) requiring that all regulations be written in clear language and contain clear legal standards.

E.O. 13175—Consultation and Coordination With Indian Tribal Governments

The Department strives to strengthen its government-to-government relationship with Indian tribes through a commitment to consultation with Tribes and recognition of their right to self-governance and Tribal sovereignty. The Department evaluated this direct final rule under E.O. 13175 and the Department's consultation policies and determined that it has no substantial, direct effects on federally recognized Indian tribes and that consultation under the Department's Tribal consultation policies is not required. The rule merely updates terminology, clarifies language, and removes obsolete provisions.

Paperwork Reduction Act

This rule does not impose any new or revised information collection requirements under the Paperwork Reduction Act of 1995 (44 U.S.C. 3501 et seq.); therefore, a submission to the OMB under the Paperwork Reduction Act is not required.

National Environmental Policy Act (NEPA)

This direct final rule does not constitute a major Federal action significantly affecting the quality of the human environment. A detailed statement under NEPA (NEPA, 42 U.S.C. 4321 et seq.) is not required because this rule is covered by a categorical exclusion applicable to regulatory functions “that are of an administrative, financial, legal, technical, or procedural nature.” 43 CFR 46.210(i). In addition, the Department has determined that this rule does not involve any of the extraordinary circumstances listed in 43 CFR 46.215 that would require further analysis under NEPA.

E.O. 13211—Actions Concerning Regulations That Significantly Affect Energy Supply, Distribution, or Use

This direct final rule is not a significant energy action as defined in E.O. 13211. Therefore, a statement of energy effects is not required.

List of Subjects in 43 CFR Part 3830

Mineral royalties, Mines, Public lands—mineral resources, Reporting and recordkeeping requirements.

Adam G. Suess,
Acting Assistant Secretary, Land and Minerals Management.

For the reasons stated in the preamble, the Bureau of Land Management amends 43 CFR part 3830 as follows:

PART 3830—LOCATING, RECORDING, AND MAINTAINING MINING CLAIMS OR SITES; GENERAL PROVISIONS

Subpart D—BLM Service Charge and Fee Requirements

1. The authority citation for part 3830 is revised to read as follows:

Authority: 18 U.S.C. 1001, 3571; 30 U.S.C. 22 et seq., 611; 31 U.S.C. 9701; 43 U.S.C. 2, 1201, 1212, 1457, 1474, 1701 et seq.; 44 U.S.C. 3501 et seq.; 115 Stat. 414; 125 Stat. 786.

2. Revise the heading for subpart D to read as follows:

Subpart D—BLM Fee Requirements

3. Revise the heading of § 3830.20 to read as follows:

§ 3830.20 Payment of processing fees, location fees, initial maintenance fees, and annual maintenance fees.

4. Amend § 3830.21 by:

a. Revising the section heading and introductory text;

b. Removing paragraph (g); and

c. Redesignating paragraph (h) as paragraph (g).

The revisions read as follows:

§ 3830.21 What are the different types of fees?

The following table lists processing fees, location fees, and maintenance fees (all cross-references refer to this chapter):

* * * * *

5. Amend § 3830.22 by revising the section heading and paragraph (a) to read as follows:

§ 3830.22 When will the BLM refund fees?

(a) BLM will not refund processing fees, except for overpayments.

* * * * *

6. Amend § 3830.23 by revising paragraph (b) to read as follows:

* * * * *

(b) If the issuing institution of your check, negotiable instrument, or credit card refuses to pay, the BLM will treat the fees as unpaid. If you provide documentation from the financial institution showing that the institution made a mistake, and your original payment was otherwise timely, the BLM will allow you to make a replacement payment.

7. Revise § 3830.25 to read as follows:

§ 3830.25 When do I pay for recording a new notice or certificate of location for a mining claim or site?

You must pay the processing fee, location fee, and initial maintenance fee, in full as provided in § 3830.21 of this chapter, at the time you record new notices or certificates of location with the BLM.

[FR Doc. 2025-16755 Filed 8-29-25; 8:45 am]

BILLING CODE 4331-29-P